DEPARTMENT OF EDUCATION

Applications for New Awards; American Indian Vocational Rehabilitation Services; Corrections

AGENCY: Office of Special Education and Rehabilitative Services, Department of Education.

ACTION: Notice; corrections.

SUMMARY: On November 6, 2024, the Department of Education (Department) published in the Federal Register a notice inviting applications (NIA) for fiscal year (FY) 2025 for the American Indian Vocational Rehabilitation Services (AIVRS) competition. We are revising the selection criteria as described further in Supplementary Information and extending the deadline date for transmittal of applications until April 7, 2025. All other information in the NIA remains the same.

DATES: These corrections are applicable on March 7, 2025.

FOR FURTHER INFORMATION CONTACT: Adrienne Rodriguez, U.S. Department of Education, 400 Maryland Avenue SW, Room 4A10, Washington, DC 20202-5076. Telephone: (202) 987-0049. Email: Adrienne.Rodriguez@ed.gov.

If you are deaf, hard of hearing, or have a speech disability and wish to access telecommunications relay services, please dial 7-1-1.

SUPPLEMENTARY INFORMATION: On November 6, 2024, the Department published an NIA for the FY 2025 AIVRS competition in the Federal Register (89 FR 88041). The Department is correcting the NIA by removing two selection criteria (Quality of project services and Quality of project personnel); amending factors under one selection criterion (three factors previously under Quality of project services have been moved to Quality of the project design); adding one factor to Quality of the management plan; adding language in one selection criterion (Quality of the project evaluation or other evidence-building) to conform with 34 CFR 75.210; changing the point distribution for the selection criteria section; and extending the deadline for transmittal of applications for the 2025 AIVRS competition. The Department is correcting this NIA as part of a comprehensive review of recently published FY 2025 NIAs. This reevaluation seeks to ensure that all priorities and requirements for the Department's FY 2025 competitions align with the objectives established by the Trump Administration while fostering consistency across all grant programs. Additionally, the Department is dedicated to optimizing the impact of our grant competitions on students and families, as well as enhancing the economic effectiveness of federal education funding. All other information in the NIA remains the same.

The Department will not consider applications submitted prior to March 7, 2025. Applicants that have already submitted an application under the 2025 AIVRS competition must submit an updated application on or before the extended application deadline of April 7, 2025, for the application to be reviewed. Program staff will endeavor to notify applicants that have already submitted an application of the requirement to submit an updated application. The Department will consider the application that is last submitted and timely received by 11:59:59 p.m., Eastern Time, on April 7, 2025.

Program Authority: 29 U.S.C. 741.

Corrections

In FR Doc. 2024-25744, published in the Federal Register on November 6, 2024 (89 FR 88041), we make the following corrections:

1. On page 88041, in the second column, revise the text under DATES as follows:

Applications Available: November 6, 2024.

Deadline for Transmittal of Applications: April 7, 2025.

Note: For new potential grantees unfamiliar with grantmaking at the Department, please consult our “Getting Started with Discretionary Grant Applications” web page at https://www.ed.gov/grants-and-programs/apply-grant/getting-started-discretionary-grant-applications.

2. On pages 88043-88044, beginning in the fourth line of the third column on page 88043 and continuing through the third column on page 88044, through but not including the heading “2. Review and Selection Process”, revise section “1. Selection Criteria” to read as follows:

“1. Selection Criteria: The selection criteria for this competition are from 34 CFR 75.210, have a maximum score of 100 points, and are as follows:

(a) Need for the Project and Significance (10 Points):

The Secretary considers the need for and significance of the proposed project. In determining the need for and significance of the proposed project, the Secretary considers the following factors:

(1) The extent to which the proposed project demonstrates the magnitude of the need for the services to be provided or the activities to be carried out by the proposed project.

(2) The extent to which the specific nature and magnitude of gaps or challenges are identified and the extent to which these gaps or challenges will be addressed by the services, supports, infrastructure, or opportunities described in the proposed project.

(3) The potential contribution of the proposed project to improve the provision of rehabilitative services, increase the number or quality of rehabilitation counselors, or develop and implement effective strategies for providing vocational rehabilitation services to individuals with disabilities.

(4) The extent to which the proposed project is likely to build local, State, regional, or national capacity to provide, improve, sustain, or expand training or services that address the needs of underserved populations.

(b) Quality of the Project Design (40 Points):

The Secretary considers the quality of the design of the proposed project. In determining the quality of the design of the proposed project, the Secretary considers the following factors:

(1) The extent to which the goals, objectives, and outcomes to be achieved by the proposed project are clearly specified, measurable, and ambitious yet achievable within the project period, and aligned with the purposes of the grant program.

(2) The extent to which the design of the proposed project demonstrates meaningful community engagement and input to ensure that the project is appropriate to successfully address the needs of the target population or other identified needs and will be used to inform continuous improvement strategies.

(3) The extent to which the proposed project will include coordination with other Federal investments, as well as appropriate agencies and organizations providing similar services to the target population.

(4) The extent to which the services to be provided by the proposed project were determined with input from the community to be served to ensure that they are appropriate and responsive to the needs of the intended recipients or beneficiaries, including underserved populations, of those services.

(5) The likelihood that the services to be provided by the proposed project will lead to meaningful improvements in the skills and competencies necessary to gain employment in high-quality jobs, careers, and industries or build capacity for independent living.

(6) The extent to which the services to be provided by the proposed project involve the collaboration of appropriate partners, including those from underserved populations, to maximize the effectiveness of project services.

(c) Adequacy of Resources (10 Points):

The Secretary considers the adequacy of resources for the proposed project. In determining the adequacy of resources for the proposed project, the Secretary considers the following factors:

(1) The adequacy of support for the project, including facilities, equipment, supplies, and other resources, from the applicant or the lead applicant organization.

(2) The extent to which the budget is adequate to support the proposed project and the costs are reasonable in relation to the objectives, design, and potential significance of the proposed project.

(3) The extent to which the costs are reasonable in relation to the number of persons to be served, the depth and intensity of services, and the anticipated results and benefits.

(d) Quality of the Management Plan (30 Points):

The Secretary considers the quality of the management plan for the proposed project. In determining the quality of the management plan for the proposed project, the Secretary considers the following factors:

(1) The feasibility of the management plan to achieve project objectives and goals on time and within budget, including clearly defined responsibilities, timelines, and milestones for accomplishing project tasks.

(2) The adequacy of plans for ensuring the use of quantitative and qualitative data, including meaningful community member and partner input, to inform continuous improvement in the operation of the proposed project.

(3) The extent to which the time commitments of the project director and principal investigator and other key project personnel are appropriate and adequate to meet the objectives of the proposed project.

(4) The extent to which the project director or principal investigator, when hired, has the qualifications required for the project, including formal training or work experience in fields related to the objectives of the project and experience in designing, managing, or implementing similar projects for the target population to be served by the project.

(e) Quality of the Project Evaluation or Other Evidence-building (10 Points):

The Secretary considers the quality of the evaluation or other evidence-building of the proposed project. In determining the quality of the evaluation or other evidence-building, the Secretary considers the following factors:

(1) The extent to which the methods of evaluation or other evidence-building are thorough, feasible, relevant, and appropriate to the goals, objectives, and outcomes of the proposed project.

(2) The extent to which the methods of evaluation or other evidence-building include the use of objective performance measures that are clearly related to the intended outcomes of the project and will produce quality data that are quantitative and qualitative.

(3) The extent to which the methods of evaluation or other evidence-building will provide performance feedback and provide formative, diagnostic, or interim data that is a periodic assessment of progress toward achieving intended outcomes.”

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Erin McHugh,
Deputy Assistant Secretary for Management and Planning and Acting Assistant Secretary for Special Education and Rehabilitative Services.

[FR Doc. 2025-03702 Filed 3-6-25; 8:45 am]

BILLING CODE 4000-01-P